DEPARTMENT OF THE INTERIOR

Bureau of Land Management

[CO-200-1430-ES; COC-63837]

Notice of Realty Action: Termination of Classification

AGENCY: Bureau of Land Management, Interior.

ACTION: Notice of Realty Action.

SUMMARY: This notice terminates in part the existing classification for 102.91 acres of public land that was classified as suitable for lease and conveyance under the Recreation and Public Purposes Act, as amended (43 U.S.C. 869 et seq.). The termination will allow the Bureau of Land Management (BLM) to offer a 6.5-acre parcel for sale under Section 203 of the Federal Land Policy and Management Act of 1976 (FLPMA) (43 U.S.C. 1701 and 1713), as amended. Termination of the classification in part is consistent with BLM policies and the BLM Colorado Northeast Resource Management Plan, dated September 16, 1986, and has been reviewed with local officials.

EFFECTIVE DATE: February 29, 2008.

FOR FURTHER INFORMATION CONTACT: Debbie Bellew, Realty Specialist, at 719-269-8514 or by e-mail dbellew@co.blm.gov.

SUPPLEMENTARY INFORMATION: By notice published in the Federal Register (70 FR 33190) on June 7, 2005, a 102.91-acre parcel of public land under the jurisdiction of the BLM was classified as suitable for lease and conveyance under the Recreation and Public Purposes Act, as amended (43 U.S.C. 869 et seq.). It has been determined to be in the public interest to partially terminate this classification to permit the BLM to offer a 6.5-acre parcel for sale under Section 203 of the Federal Land Policy and Management Act of 1976 (FLPMA) (43 U.S.C. 1701 and 1713), as amended.

Notice: Pursuant to 43 CFR 2091.2-2, the classification is terminated as to the following described parcel upon publication of this notice in the Federal Register:

Sixth Principal Meridian, Colorado,

T. 1 N., R. 73 W.,

Section 12: Lot 67.

Containing 6.5 acres.

The above described land is hereby made available for sale in accordance with Section 203 of the Federal Land Policy and Management Act of 1976 (FLPMA) (43 U.S.C. 1701 and 1713), subject to valid existing rights, the provisions of existing withdrawals, other segregations of record, and the requirements of applicable law. In the event the 6.5-acre parcel is not sold, this termination shall have no force or effect.

Roy L. Masinton,
Royal Gorge Field Office Manager.

[FR Doc. E8-1606 Filed 1-29-08; 8:45 am]

BILLING CODE 4310-JB-P